DEPARTMENT OF JUSTICE

Antitrust Division

Notice Pursuant to the National Cooperative Research and Production Act of 1993—DVB Project

Notice is hereby given that, on September 20, 2004, pursuant to section 6(a) of the National Cooperative Research and Production Act of 1993, 15 U.S.C. 4301 et seq. (“the Act”), DVB Project (“DVB”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: DVB Project, Geneva, SWITZERLAND. The nature and scope of DVB's standards development activities are: To develop, assist in conformance testing in respect of, provide certification services related to, and promote specifications for digital video broadcasting and related fields.

For further information about the DVB Project, its activities, and its membership, see http://www.dvb.org.

Dorothy B. Fountain,
Deputy Director of Operations, Antitrust Division.

[FR Doc. 04-25871 Filed 11-19-04; 8:45 am]

BILLING CODE 4410-11-M